DEPARTMENT OF STATE

[Public Notice 7172]

Shipping Coordinating Committee; Notice of Committee Meeting

The Shipping Coordinating Committee (SHC) will conduct two open meetings at United States Coast Guard Headquarters Building, 2100 Second Street, SW., Washington, DC 20593-0001. The first meeting will be held at 9:30 a.m., Wednesday, January 26, 2011, in conference room 6103. The primary purpose of this meeting is to prepare for the fifteenth session of the International Maritime Organization's (IMO) Subcommittee on Bulk Liquids and Gases (BLG 15) to be held at IMO Headquarters in London, United Kingdom, from February 7 to February 11, 2011.

The primary matters to be considered at the 26 January meeting in preparation for BLG 15 include:

— Evaluation of safety and pollution hazards of chemicals and preparation of consequential amendments;

— Application of the requirements for the carriage of bio-fuels and bio-fuel blends;

— Development of guidelines and other documents for uniform implementation of the 2004 BWM Convention;

— Development of provision for gas-fuelled ships;

— Casualty analysis;

—Consideration of IACS unified interpretations;

— Development of international measures for minimizing the transfer of invasive aquatic species through bio-fouling of ships;

— Revision of the IGC Code;

— Review of relevant non-mandatory instruments as a consequence of the amended MARPOL Annex VI and the NOX Technical Code;

— Development of a Code for the transport and handling of limited amounts of hazardous and noxious liquid substances in bulk in offshore support vessels;

— Amendments to SOLAS to mandate enclosed space entry and rescue drills;

— Revision of the Recommendations for entering enclosed spaces aboard ships;

— Review of proposed amendments to chapter 14 of the FSS Code related to ships carrying liquid substances listed in the IBC Code

The second meeting will be held at 10 a.m. on Thursday, February 15, 2011 in Conference Room 05-1224 of the United States Coast Guard Headquarters Building, 2100 Second Street, SW., Washington, DC 20593-0001. The primary purpose of the meeting is to prepare for the nineteenth Session of the International Maritime Organization's (IMO) Subcommittee on Flag State Implementation (FSI 19) to be held at the IMO Headquarters in London, United Kingdom, from February 21 to February 25, 2011.

The primary matters to be considered at the 15 February meeting in preparation for FSI 19 include:

— Adoption of the agenda

— Decisions of other IMO bodies

— Responsibilities of Governments and measures to encourage flag State compliance;

— Mandatory reports under International Convention for the Prevention of Pollution from Ships, 1973, as modified by the Protocol of 1978 (MARPOL 73/78);

— Casualty statistics and investigations;

— Harmonization of port State control activities;

— Port State Control (PSC) Guidelines on seafarers' working hours and PSC guidelines in relation to the Maritime Labour Convention, 2006;

— Development of guidelines on port State control under the 2004 Ballast Water Management (BWM) Convention;

— Review of Guidelines for the inspection of anti-fouling systems on ships

— Comprehensive analysis of difficulties encountered in the implementation of IMO instruments;

— Review of the Survey Guidelines under the Harmonized System of Survey and Certification (HSSC);

— Consideration of International Association of Classification Societies (IACS) unified interpretations;

— Review of the Code for the Implementation of Mandatory IMO Instruments;

— Development of a Code for Recognized Organizations;

— Measures to protect the safety of persons rescued at sea;

— Election of Chairman and Vice-Chairman for 2012

Members of the public may attend these two meetings up to the seating capacity of the rooms. To facilitate the building security process, and to request reasonable accommodation, those who plan to attend should contact one of the two meeting coordinators:

— For the January 26, 2011 meeting in preparation for BLG 15 contact LT S.M. Peterson by e-mail at sean.m.peterson@uscg.mil, by phone/fax at (202) 372-1403/1926, or in writing to (CG-5223), U.S. Coast Guard, 2100 2nd Street, SW., Stop 7126, Washington, DC 20593-7126 no later than January 19, 2011, seven days prior to the meeting. Please note that requests made after January 19, 2011 might not be accommodated.

— For the February 15, 2011 meeting in preparation for FSI 19 contact Mr. E.J. Terminella, by e-mail at emanuel.j.terminellajr@uscg.mil, by phone/fax at (202) 372-1239/1918, or in writing at Commandant (CG-543), U.S. Coast Guard, 2100 2nd Street, SW., Stop 7581, Washington, DC 20593-7581 not later than February 8, 2011, 7 days prior to the meeting. Requests made after February 8, 2011 might not be able to be accommodated.

Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: December 22, 2010.
Jon Trent Warner,
Executive Secretary, Shipping Coordinating Committee, Department of State.

[FR Doc. 2010-32887 Filed 12-28-10; 8:45 am]

BILLING CODE 4710-09-P